DEPARTMENT OF ENERGY

Federal Energy Regulatory Commission

Notice of Change in Available Document Formats for FERC Issuances

August 27, 2002.

The Federal Energy Regulatory Commission hereby gives notice that effective September 9, 2002, it will no longer post the scanned image version of issuances in its Federal Energy Regulatory Records Information System (FERRIS).

The change applies to orders and notices issued by the Office of the Secretary as well as to delegated orders and notices. As a result of this change, the signature of the Secretary, Deputy Secretary, Office Director, or other official, as appropriate, will no longer appear on any of the files viewable and/or downloadable from FERRIS. The signed paper copy will continue to be the official copy of record, and persons desiring a copy of the signed copy of record for any Commission issuance will still be able to request the signed copy from the Commission Public Reference Room.

All issuances will be available in FERRIS for viewing and/or download in three file formats: the source document format (WordPerfect or Word), Portable Document Format (PDF), and ASCII text format. The PDF version will provide the page integrity that was previously available only from the scanned image version or an official paper copy.

Elimination of the scanned image file format for issuances will result in faster processing of Commission documents into FERRIS.

For additional information on retrieving a signed copy, please contact the Public Reference Room on 202-502-8371.

Linwood A. Watson, Jr.,
Deputy Secretary.

[FR Doc. 02-22476 Filed 9-3-02; 8:45 am]

BILLING CODE 6717-01-P